DEPARTMENT OF HOMELAND SECURITY

Coast Guard

33 CFR Parts 26, 161, 164, and 165

[USCG-2003-14757]

RIN 1625-AA67

Automatic Identification System; Vessel Carriage Requirement; Correction

AGENCY: Coast Guard, DHS.

ACTION: Correcting amendments.

SUMMARY: On July 1, 2003, the Coast Guard published a temporary interim rule with request for comments and notice of meeting in the Federal Register concerning the implementation of Automatic Identification Systems (AIS). This document contains corrections to that rule.

DATES: Effective on July 1, 2003.

FOR FURTHER INFORMATION CONTACT: For information concerning this document, write or call Mr. Jorge Arroyo, Office of Vessel Traffic Management (G-MWV), U.S. Coast Guard by telephone 202-267-1103, toll-free telephone 1-800-842-8740 ext. 7-1103, or by electronic mail msregs@comdt.uscg.mil. If you have questions on viewing or submitting material to the docket, call Dorothy Beard, Chief, Dockets, Department of Transportation, at telephone 202-366-5149.

SUPPLEMENTARY INFORMATION: The Coast Guard published a temporary interim rule with request for comments and notice of meeting in the Federal Register on July 1, 2003, (68 FR 39353). The rule contained typographical errors and omissions that may prove to be misleading and therefore need to be corrected.

Corrections to the Regulatory Text

PART 26—VESSEL BRIDGE-TO-BRIDGE RADIOTELEPHONE REGULATIONS

1. Correct part 26 by revising the authority citation to read as follows:

Authority: 14 U.S.C. 2; 33 U.S.C. 1201-1208; Pub. L. 107-295, 116 Stat. 2064; Department of Homeland Security Delegation No. 0170.1; Rule 1, International Regulations for the Prevention of Collisions at Sea.

PART 161—VESSEL TRAFFIC MANAGEMENT

2. Correct part 161 by revising the authority citation to read as follows:

Authority: 33 U.S.C. 1223, 1231; 46 U.S.C. 70114, 70117; Pub. L. 107-295, 116 Stat. 2064; Department of Homeland Security Delegation No. 0170.1.

PART 164—NAVIGATION SAFETY REGULATIONS

3. Correct part 164 by revising the authority citation to read as follows:

Authority: 33 U.S.C. 1223, 1231; 46 U.S.C. 2103, 3703, 70114, 70117; Pub. L. 107-295, 116 Stat. 2064; Department of Homeland Security Delegation No. 0170.1. Sec. 164.13 also issued under 46 U.S.C. 8502. Sec. 164.61 also issued under 46 U.S.C. 6101.

§ 164.46 [Corrected]

4. In § 164.46(a)(2), add the word “self-propelled” before the word “vessels”.

PART 165—REGULATED NAVIGATION AREAS AND LIMITED ACCESS AREAS

5. Correct part 165 by revising the authority citation to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

Dated: July 11, 2003.
T. H. Gilmour,
Rear Admiral, U.S. Coast Guard, Assistant Commandant for Marine Safety, Security and Environmental Protection.

[FR Doc. 03-17982 Filed 7-15-03; 8:45 am]

BILLING CODE 4910-15-P